DEPARTMENT OF COMMERCE

International Trade Administration

[A-570-890]

Wooden Bedroom Furniture From the People's Republic of China: Final Results and Final Rescission in Part

AGENCY: Import Administration, International Trade Administration, Department of Commerce.

SUMMARY: On February 10, 2011, the Department of Commerce (Department) published in the Federal Register its preliminary results of the administrative review of the antidumping duty order on wooden bedroom furniture (WBF) from the People's Republic of China (PRC), covering the period January 1, 2009 through December 31, 2009.¹ We gave interested parties an opportunity to comment on the Preliminary Results. After reviewing the interested parties' comments, we made changes to our calculations for these final results of the review. The final dumping margins for this review are listed in the “Final Results of the Review” section below.

¹ See Wooden Bedroom Furniture From the People's Republic of China: Preliminary Results of Antidumping Duty Administrative Review and Intent to Rescind Review in Part, 76 FR 7534 (February 10, 2011) (Preliminary Results).

DATES: Effective Date: August 11, 2011.

FOR FURTHER INFORMATION CONTACT: Jeff Pedersen or Rebecca Pandolph, AD/CVD Operations, Office 4, Import Administration, International Trade Administration, U.S. Department of Commerce, 14th Street and Constitution Avenue, NW., Washington, DC 20230; telephone: (202) 482-2769 and (202) 482-3627, respectively.

Background

On March 11, 2011, the Department issued a memorandum finding that Dalian Huafeng Furniture Group Co., Ltd. (Huafeng) is the successor-in-interest to Dalian Huafeng Furniture Co., Ltd. for purposes of this proceeding and for the application of the antidumping law.

Between March 14, 2011, and March 22, 2011, Petitioners,² Huafeng, Dongguan Great Reputation Furniture Co., Ltd., Home Meridian International, Inc, d/b/a Samuel Lawrence Furniture Co. and Pulaski Furniture Company (Home Meridian), Import Services, Inc., Hooker Furniture Corporation, Nantong Yangzi Furniture Co., Ltd. (Nantong Yangzi), and Dongguan Cambridge Furniture Co., Ltd. and Glory Oceanic Co., Ltd. (collectively Cambridge), Butler Woodcrafters, Inc., Barry Imports East Corp., and Zhangjiagang Zheng Yan Decoration Co., Ltd. (ZYD), submitted case briefs to the Department. On March 24, 2011, the Department rejected a portion of Huafeng's case brief due to the inclusion of untimely new factual information. On March 25, 2011, Huafeng resubmitted its case brief with the new factual information excluded. On March 28, 2011, Petitioners, Huafeng, Home Meridian, Import Services, Inc., Nantong Yangzi, and Cambridge filed rebuttal briefs with the Department.

² Petitioners are the American Furniture Manufactures Committee for Legal Trade and Vaughan-Bassett Furniture Company, Inc. (Petitioners).

On March 7, 2011, the Department received surrogate value (SV) information from interested parties and placed SV information for truck freight on the record.³ On March 17, 2011, Petitioners filed information with the Department which they claimed rebutted, clarified, or corrected SV information placed on the record after the Preliminary Results of the review were issued. On March 21, 2011, the Department requested that interested parties withhold comments regarding the SV for truck freight from their case briefs because it was considering whether to accept Petitioners' March 17, 2011, rebuttal SV submission. On April 18, 2011, the Department rejected a portion of Petitioners' March 17, 2011, rebuttal SV submission but allowed Petitioners to refile the submission without the rejected information. Petitioners submitted a redacted version of their March 17, 2011, rebuttal SV submission on April 19, 2011. On April 18, 2011, the Department extended the deadline for case and rebuttal briefs regarding the valuation of truck freight until April 21, 2011, and April 25, 2011, respectively. On April 21, 2011, the Department received a case brief regarding truck freight from Petitioners. On April 25, 2011, Huafeng submitted a rebuttal brief regarding truck freight.

³ See Memorandum to the File regarding “Antidumping Duty Administrative Review of Wooden Bedroom Furniture from the People's Republic of China,” dated March 7, 2011.

On May 20, 2011, the Department issued a memorandum further explaining its decision in the Preliminary Results not to extend the time for Petitioners to withdraw their request for a review of ZYD.⁴ On May 25, 2011, ZYD commented on this post preliminary memorandum.

⁴ See Memorandum from Abdelali Elouaradia, Director, Office 4 to Christian Marsh, Deputy Assistant Secretary for Antidumping and Countervailing Duty Operations “Wooden Bedroom Furniture from the People's Republic of China: Untimely Withdrawal of Request for Administrative Review of Zhangjiagang Zheng Yan Decoration Co., Ltd. dated May 20, 2011.

On June 10, 2011, the Department extended the time period for completing the final results of the instant administrative review.⁵ On July 13, 2011, the Department further extended the time period for completing the final results of the instant administrative review.⁶

⁵ See Wooden Bedroom Furniture from the People's Republic of China: Extension of the Time Limit for the Final Results of the Antidumping Duty Administrative Review, 76 FR 34043 (June 10, 2011).

⁶ See Wooden Bedroom Furniture from the People's Republic of China: Extension of the Time Limit for the Final Results of the Antidumping Duty Administrative Review, 76 FR 41215 (July 13, 2011).

Analysis of Comments Received

All issues raised in the case and rebuttal briefs by parties in this review are addressed in the Memorandum from Christian Marsh, Deputy Assistant Secretary for Antidumping and Countervailing Duty Operations, to Ronald K. Lorentzen, Deputy Assistant Secretary for Import Administration, “Issues and Decision Memorandum for the Final Results of the Administrative Review of the Antidumping Duty Order on Wooden Bedroom Furniture from the People's Republic of China,” dated July 11, 2011, which is hereby adopted by this notice (Issues and Decision Memorandum). A list of the issues which parties raised and to which we responded in the Issues and Decision Memorandum is attached to this notice as an Appendix. The Issues and Decision Memorandum is a public document and is on file in the Central Records Unit, Main Commerce Building, Room 7046, and is accessible on the Web at http://ia.ita.doc.gov/frn>. The paper copy and electronic version of the memorandum are identical in content.

Changes Since the Preliminary Results

Based on an analysis of the comments received, the Department has made the following changes:

Surrogate Values ⁷

⁷ For all changes to SVs, see the July 11, 2011 Final Results Surrogate Value Memorandum.

• We valued Huafeng's plywood inputs based on Philippine imports of HTS subheading 4412.13.10. See Comment 7 of the Issues and Decision Memorandum.

• We valued Huafeng's self-adhesive tape inputs based on Philippine imports of HTS subheading 3919.10.90. See Comment 8 of the Issues and Decision Memorandum.

• We valued Huafeng's glue consumed as overhead based on Philippine imports of HTS subheading 3506.91. See Comment 10 of the Issues and Decision Memorandum.

• We recalculated the surrogate financial ratios using additional financial statements that were provided after the Preliminary Results were issued and after changing our treatment of certain financial statement line items. See Comment 19 of the Issues and Decision Memorandum.

Ministerial Errors ⁸

⁸ For all corrections to ministerial errors, see the July 11, 2011 Final Results Analysis Memorandum.

• We corrected the calculation of indirect selling expenses deducted from U.S. price. See Comment 12 of the Issues and Decision Memorandum.

• We corrected our conversion of square meters of oak veneer into cubic decimeters. See Comment 13 of the Issues and Decision Memorandum.

• We removed the quantity of electricity consumed by the samples workshop from the quantity of electricity consumption allocated to subject merchandise. See Comment 2 of the Issues and Decision Memorandum.

Other Changes ⁹

⁹ See also the Final Results Analysis Memorandum.

• We calculated the per-unit brokerage and handling SV using a different weight. See Comment 6 of the Issues and Decision Memorandum.

• We added the quantity of electricity consumed to the factors of production used in assembling cardboard cartons.

Period of Review

The period of review (POR) is January 1, 2009, through December 31, 2009.

Scope of the Order

The product covered by the order is WBF. WBF is generally, but not exclusively, designed, manufactured, and offered for sale in coordinated groups, or bedrooms, in which all of the individual pieces are of approximately the same style and approximately the same material and/or finish. The subject merchandise is made substantially of wood products, including both solid wood and also engineered wood products made from wood particles, fibers, or other wooden materials such as plywood, strand board, particle board, and fiberboard, with or without wood veneers, wood overlays, or laminates, with or without non-wood components or trim such as metal, marble, leather, glass, plastic, or other resins, and whether or not assembled, completed, or finished.

The subject merchandise includes the following items: (1) Wooden beds such as loft beds, bunk beds, and other beds; (2) wooden headboards for beds (whether stand-alone or attached to side rails), wooden footboards for beds, wooden side rails for beds, and wooden canopies for beds; (3) night tables, night stands, dressers, commodes, bureaus, mule chests, gentlemen's chests, bachelor's chests, lingerie chests, wardrobes, vanities, chessers, chifforobes, and wardrobe-type cabinets; (4) dressers with framed glass mirrors that are attached to, incorporated in, sit on, or hang over the dresser; (5) chests-on-chests,¹⁰ highboys,¹¹ lowboys,¹² chests of drawers,¹³ chests,¹⁴ door chests,¹⁵ chiffoniers,¹⁶ hutches,¹⁷ and armoires;¹⁸ (6) desks, computer stands, filing cabinets, book cases, or writing tables that are attached to or incorporated in the subject merchandise; and (7) other bedroom furniture consistent with the above list.

¹⁰ A chest-on-chest is typically a tall chest-of-drawers in two or more sections (or appearing to be in two or more sections), with one or two sections mounted (or appearing to be mounted) on a slightly larger chest; also known as a tallboy.

¹¹ A highboy is typically a tall chest of drawers usually composed of a base and a top section with drawers, and supported on four legs or a small chest (often 15 inches or more in height).

¹² A lowboy is typically a short chest of drawers, not more than four feet high, normally set on short legs.

¹³ A chest of drawers is typically a case containing drawers for storing clothing.

¹⁴ A chest is typically a case piece taller than it is wide featuring a series of drawers and with or without one or more doors for storing clothing. The piece can either include drawers or be designed as a large box incorporating a lid.

¹⁵ A door chest is typically a chest with hinged doors to store clothing, whether or not containing drawers. The piece may also include shelves for televisions and other entertainment electronics.

¹⁶ A chiffonier is typically a tall and narrow chest of drawers normally used for storing undergarments and lingerie, often with mirror(s) attached.

¹⁷ A hutch is typically an open case of furniture with shelves that typically sits on another piece of furniture and provides storage for clothes.

¹⁸ An armoire is typically a tall cabinet or wardrobe (typically 50 inches or taller), with doors, and with one or more drawers (either exterior below or above the doors or interior behind the doors), shelves, and/or garment rods or other apparatus for storing clothes. Bedroom armoires may also be used to hold television receivers and/or other audio-visual entertainment systems.

The scope of the order excludes the following items: (1) Seats, chairs, benches, couches, sofas, sofa beds, stools, and other seating furniture; (2) mattresses, mattress supports (including box springs), infant cribs, water beds, and futon frames; (3) office furniture, such as desks, stand-up desks, computer cabinets, filing cabinets, credenzas, and bookcases; (4) dining room or kitchen furniture such as dining tables, chairs, servers, sideboards, buffets, corner cabinets, china cabinets, and china hutches; (5) other non-bedroom furniture, such as television cabinets, cocktail tables, end tables, occasional tables, wall systems, book cases, and entertainment systems; (6) bedroom furniture made primarily of wicker, cane, osier, bamboo or rattan; (7) side rails for beds made of metal if sold separately from the headboard and footboard; (8) bedroom furniture in which bentwood parts predominate; ¹⁹ (9) jewelry armories; ²⁰ (10) cheval mirrors; ²¹ (11) certain metal parts; ²² (12) mirrors that do not attach to, incorporate in, sit on, or hang over a dresser if they are not designed and marketed to be sold in conjunction with a dresser as part of a dresser-mirror set; (13) upholstered beds ²³ and (14) toy boxes.²⁴

¹⁹ As used herein, bentwood means solid wood made pliable. Bentwood is wood that is brought to a curved shape by bending it while made pliable with moist heat or other agency and then set by cooling or drying. See CBP's Headquarters Ruling Letter 043859, dated May 17, 1976.

²⁰ Any armoire, cabinet or other accent item for the purpose of storing jewelry, not to exceed 24 inches in width, 18 inches in depth, and 49 inches in height, including a minimum of 5 lined drawers lined with felt or felt-like material, at least one side door (whether or not the door is lined with felt or felt-like material), with necklace hangers, and a flip-top lid with inset mirror. See Issues and Decision Memorandum from Laurel LaCivita to Laurie Parkhill, Office Director, concerning “Jewelry Armoires and Cheval Mirrors in the Antidumping Duty Investigation of Wooden Bedroom Furniture from the People's Republic of China,” dated August 31, 2004. See also Wooden Bedroom Furniture From the People's Republic of China: Final Changed Circumstances Review, and Determination To Revoke Order in Part, 71 FR 38621 (July 7, 2006).

²¹ Cheval mirrors are any framed, tiltable mirror with a height in excess of 50 inches that is mounted on a floor-standing, hinged base. Additionally, the scope of the order excludes combination cheval mirror/jewelry cabinets. The excluded merchandise is an integrated piece consisting of a cheval mirror, i.e., a framed tiltable mirror with a height in excess of 50 inches, mounted on a floor-standing, hinged base, the cheval mirror serving as a door to a cabinet back that is integral to the structure of the mirror and which constitutes a jewelry cabinet line with fabric, having necklace and bracelet hooks, mountings for rings and shelves, with or without a working lock and key to secure the contents of the jewelry cabinet back to the cheval mirror, and no drawers anywhere on the integrated piece. The fully assembled piece must be at least 50 inches in height, 14.5 inches in width, and 3 inches in depth. See Wooden Bedroom Furniture From the People's Republic of China: Final Changed Circumstances Review and Determination To Revoke Order in Part, 72 FR 948 (January 9, 2007).

²² Metal furniture parts and unfinished furniture parts made of wood products (as defined above) that are not otherwise specifically named in this scope (i.e., wooden headboards for beds, wooden footboards for beds, wooden side rails for beds, and wooden canopies for beds) and that do not possess the essential character of wooden bedroom furniture in an unassembled, incomplete, or unfinished form. Such parts are usually classified under HTSUS subheadings 9403.90.7005, 9403.90.7010, or 9403.90.7080.

²³ Upholstered beds that are completely upholstered, i.e., containing filling material and completely covered in sewn genuine leather, synthetic leather, or natural or synthetic decorative fabric. To be excluded, the entire bed (headboards, footboards, and side rails) must be upholstered except for bed feet, which may be of wood, metal, or any other material and which are no more than nine inches in height from the floor. See Wooden Bedroom Furniture from the People's Republic of China: Final Results of Changed Circumstances Review and Determination to Revoke Order in Part, 72 FR 7013 (February 14, 2007).

²⁴ To be excluded the toy box must: (1) Be wider than it is tall; (2) have dimensions within 16 inches to 27 inches in height, 15 inches to 18 inches in depth, and 21 inches to 30 inches in width; (3) have a hinged lid that encompasses the entire top of the box; (4) not incorporate any doors or drawers; (5) have slow-closing safety hinges; (6) have air vents; (7) have no locking mechanism; and (8) comply with American Society for Testing and Materials (“ASTM”) standard F963-03. Toy boxes are boxes generally designed for the purpose of storing children's items such as toys, books, and playthings. See Wooden Bedroom Furniture from the People's Republic of China: Final Results of Changed Circumstances Review and Determination to Revoke Order in Part, 74 FR 8506 (February 25, 2009). Further, as determined in the scope ruling memorandum “Wooden Bedroom Furniture from the People's Republic of China: Scope Ruling on a White Toy Box,” dated July 6, 2009, the dimensional ranges used to identify the toy boxes that are excluded from the wooden bedroom furniture order apply to the box itself rather than the lid.

Imports of subject merchandise are classified under subheadings 9403.50.9042 and 9403.50.9045 ²⁵ of the U.S. Harmonized Tariff Schedule (“HTSUS”) as “wooden * * * beds” and under subheading 9403.50.9080 of the HTSUS as “other * * * wooden furniture of a kind used in the bedroom.” In addition, wooden headboards for beds, wooden footboards for beds, wooden side rails for beds, and wooden canopies for beds may also be entered under subheading 9403.50.9042 or 9403.50.9045 of the HTSUS as “parts of wood.” Subject merchandise may also be entered under subheadings 9403.50.9041 or 9403.60.8081.²⁶ Further, framed glass mirrors may be entered under subheading 7009.92.1000²⁷ or 7009.92.5000 of the HTSUS as “glass mirrors * * * framed.” The order covers all WBF meeting the above description, regardless of tariff classification. Although the HTSUS subheadings are provided for convenience and customs purposes, our written description of the scope of this proceeding is dispositive.

²⁵ These HTSUS numbers, as well as the numbers in footnote 20, reflect the HTSUS numbers currently in effect. These numbers differ from those used in the last completed antidumping duty administrative review of WBF from the PRC because the HTSUS has been revised.

²⁶ These HTSUS numbers were added to the scope in the 2009 Annual New Shipper Review of the proceeding. See Wooden Bedroom Furniture from the People's Republic of China: Final Results of Antidumping Duty New Shipper Reviews, 76 FR 9747 (February 22, 2011).

²⁷ Id.

Separate Rates

Companies Granted Separate Rates in the Preliminary Results

In the Preliminary Results, we determined that the following companies demonstrated their eligibility for separate-rate status: (1) Huafeng; (2) Baigou Crafts Factory of Fengkai; (3) Dongguan Bon Ten Furniture Co., Ltd.; (4) Dongguan Kin Feng Furniture Co., Ltd.; (5) Dongguan Singways Furniture Co., Ltd.; (6) Dongguan Sunshine Furniture Co., Ltd.; (7) Hong Kong Da Zhi Furniture Co., Ltd., Dongguan Grand Style Furniture Co., Ltd.; (8) Longkou Huangshan Furniture Factory; (9) Nanhai Baiyi Woodwork Co. Ltd.; (10) Nanjing Nanmu Furniture Co., Ltd.; (11) Season Furniture Manufacturing Co., Season Industrial Development Co.; (12) Shenyang Shining Dongxing Furniture Co., Ltd.; (13) Shenzhen Shen Long Hang Industry Co., Ltd.; (14) Wanhengtong Nueevder (Furniture) Manufacture Co., Ltd., Dongguan Wanengtong Industry Co., Ltd.; (15) Xilinmen Furniture Co., Ltd.; (16) Zhangjiagang Zheng Yan Decoration Co. Ltd., and (17) Zhangjiang Sunwin Arts & Crafts Co., Ltd. For these final results, we continue to find that evidence placed on the record of this review demonstrates that these companies provided information that shows both a de jure and de facto absence of government control with respect to their respective exports of the merchandise under review and, thus, these companies are eligible for separate-rate status.

With respect to the following companies that were not selected for individual examination in this review we continue to find they should be granted a separate rate because they are wholly owned by individuals or companies located in a market economy: (1) Cheng Meng Furniture (PTE) Ltd., Cheng Meng Decoration & Furniture (Suzhou) Co., Ltd.; (2) COE, Ltd; (3) Dongguan Hero Way Woodwork Co., Ltd., Dongguan Da Zhong Woodwork Co., Ltd., Hero Way Enterprises Ltd., Well Earth International Ltd.; (4) Dongguan Liaobushangdun Huada Furniture Factory, Great Rich (HK) Enterprise Co., Ltd.; (5) Eurosa (Kunshan) Co., Ltd., Eurosa Furniture Co., (PTE) Ltd.; (6) Garri Furniture (Dong Guan) Co., Ltd., Molabile International, Inc. Weei Geo Enterprise Co., Ltd.; (7) Hualing Furniture (China) Co., Ltd., Tony House Manufacture (China) Co., Ltd., Buysell Investments Ltd., Tony House Industries Co., Ltd.; (8) Jardine Enterprise, Ltd.; (9) Winny Overseas, Ltd; (10) Meikangchi (Nantong) Furniture Company Ltd.; and (11) Zhong Shan Fullwin Furniture Co., Ltd. As wholly foreign-owned companies, we have no evidence indicating that these companies are under the control of the PRC government. Therefore, a separate-rate analysis is not necessary to determine whether these companies are independent from government control.²⁸

²⁸ See Preliminary Results; see also Notice of Final Determination of Sales at Less Than Fair Value: Creatine Monohydrate From the People's Republic of China, 64 FR 71104-05 (December 20, 1999) (where the Department determined that a respondent that was wholly foreign-owned qualified for a separate rate).

Since the Preliminary Results, the only comments received regarding our separate rate determinations were from parties noting that the Department failed to mention Dongguan Cambridge Furniture Co., Ltd., Glory Oceanic Co., Ltd. and Dongguan Great Reputation Furniture Co., Ltd. in its preliminary separate rate determination. Parties claimed that the Department apparently overlooked the separate rate submissions by these companies. We agree that in the Preliminary Results, we inadvertently omitted Dongguan Cambridge Furniture Co., Ltd., Glory Oceanic Co., Ltd. and Dongguan Great Reputation Furniture Co., Ltd. from the list of companies that had demonstrated their eligibility to receive a separate rate.²⁹ Therefore, for the final results, we have granted these companies a separate rate.

²⁹ See Issues and Decision Memorandum at Comment 15.

Companies Not Providing Separate Rate Certifications or Applications

In the Preliminary Results, we stated that the following nine companies or company groupings for which the Department initiated the instant review did not provide a separate rate certification or application and therefore have not demonstrated their eligibility for separate rate status in this administrative review:

• Dongguan Creation Furniture Co., Ltd., Creation Industries Co., Ltd.

• Foshan Guanqiu Furniture Co., Ltd.

• Jiangsu Weifu Group Fullhouse Furniture Mfg. Corp.

• Link Silver Ltd. (V.I.B.), Forward Win Enterprises Company Limited, Dongguan Haoshun Furniture Ltd.

• Nantong Yushi Furniture Co., Ltd.

• Shanghai Aosen Furniture Co., Ltd.

• Shenzhen Xiande Furniture Factory

• Tarzan Furniture Industries, Ltd., Samso Industries Ltd.

• Tianjin Master Home Furniture

In the Preliminary Results, we also found that (1) Nantong Yangzi, (2) Zhongshan Gainwell Furniture Co., Ltd., and (3) Dongguan Landmark Furniture Products Ltd. shipped subject merchandise during the POR, had not filed separate rate certifications or applications and thus we treated these companies as part of the PRC-wide entity. Since the Preliminary Results, aside from Nantong Yangzi,³⁰ no interested parties submitted comments regarding the companies listed above. In Comment 14 of the accompanying Issues and Decision Memorandum, we addressed Nantong Yangzi's comments and determined not to rescind the review with respect to Nantong Yangzi. Therefore, for the final results, we continue to treat these entities as part of the PRC-Wide entity.

³⁰ See Issues and Decision Memorandum at Comment 14.

Adverse Facts Available (AFA)

In the Preliminary Results, we determined that in accordance with sections 776(a)(2)(A) and (C) and 776(b) of the Act, the use of AFA is appropriate for the PRC-wide entity. The Department assigned a dumping margin of 216.01 percent, the highest rate on the record of any segment of the proceeding to all companies that are part of the PRC-wide entity, as AFA.³¹ No interested party commented on this determination regarding the PRC-wide entity and we have made no changes from our Preliminary Results with respect to this issue.

³¹ See Preliminary Results.

Also in the Preliminary Results, we determined that Huafeng failed to report certain sales and thus withheld necessary information within the meaning of section 776(a)(2)(A) of the Act and failed to act to the best of its ability to comply with the Department's requests for information within the meaning of section 776(b) of the Act. We therefore applied a dumping margin based on AFA to Huafeng's unreported sales, pursuant to section 776(b) of the Act. As partial AFA, we applied to the unreported sales a margin of 216.01 percent. Parties commented both on our decision to apply AFA and on our choice of the AFA rate applied to Huafeng. After considering these comments, we have continued to apply to Huafeng's unreported sales an AFA margin of 216.01 percent.³²

³² See Issues and Decision Memorandum at Comment 1.

Corroboration of Secondary Information

Section 776(c) of the Act provides that, when the Department relies on secondary information rather than on information obtained in the course of an investigation or review, it shall, to the extent practicable, corroborate that information from independent sources that are reasonably at its disposal. Secondary information is defined as information derived from the petition that gave rise to the investigation or review, the final determination concerning the subject merchandise, or any previous review under section 751 of the Act concerning the subject merchandise.³³ To corroborate means that the Department will satisfy itself that the secondary information to be used has probative value.³⁴ To corroborate secondary information, the Department will, to the extent practicable, examine the reliability and relevance of the information to be used.³⁵ Independent sources used to corroborate such information may include, for example, published price lists, official import statistics and customs data, and information obtained from interested parties during the particular investigation or review.³⁶

³³ See the Statement of Administrative Action accompanying the Uruguay Round Agreements Act, H.R. Doc. 103-316 Vol. 1 at 870 (1994) (SAA).

³⁴ See Id.

³⁵ See Tapered Roller Bearings and Parts Thereof, Finished and Unfinished From Japan, and Tapered Roller Bearings, Four Inches or Less in Outside Diameter, and Components Thereof, From Japan; Preliminary Results of Antidumping Duty Administrative Reviews and Partial Termination of Administrative Reviews, 61 FR 57391, 57392 (November 6, 1996) (unchanged in Tapered Roller Bearings and Parts Thereof, Finished and Unfinished, From Japan, and Tapered Roller Bearings, Four Inches or Less in Outside Diameter, and Components Thereof, From Japan; Final Results of Antidumping Duty Administrative Reviews and Termination in Part, 62 FR 11825 (March 13, 1997)).

³⁶ See the SAA at 870; see also Notice of Preliminary Determination of Sales at Less Than Fair Value: High and Ultra-High Voltage Ceramic Station Post Insulators from Japan, 68 FR 35627, 35629 (June 16, 2003) (unchanged in Notice of Final Determination of Sales at Less Than Fair Value: High and Ultra-High Voltage Ceramic Station Post Insulators from Japan, 68 FR 62560 (November 5, 2003)).

The 216.01 AFA rate that the Department is using in this review is a company-specific rate calculated in the 2004-2005 New Shipper Review of the WBF order.³⁷ No additional information has been presented in the current review which calls into question the reliability of this secondary information. Thus, we have determined that this secondary information continues to be reliable. With respect to the relevance aspect of corroboration, the Department will consider information reasonably at its disposal to determine whether a margin continues to have relevance. Where circumstances indicate that the selected margin is not appropriate as AFA, the Department will disregard the margin and determine an appropriate margin.³⁸ Similarly, the Department does not apply a margin that has been discredited.³⁹ To assess the relevancy of the rate used, the Department compared the transaction-specific margins calculated for Huafeng in the instant administrative review with the 216.01 percent rate calculated in the 2004-2005 New Shipper Review and found that the 216.01 percent margin was within the range of the calculated margins on the record of the instant administrative review. Because the dumping margins used to corroborate the AFA rate are not unusually high dumping margins relative to the calculated rates determined for the cooperating respondent, the Department is satisfied that the dumping margins used for corroborative purposes reflect commercial reality because they are based upon real transactions that occurred during the POR and were subject to verification by the Department.⁴⁰

³⁷ See Wooden Bedroom Furniture from the People's Republic of China: Final Results of the 2004-2005 Semi-Annual New Shipper Reviews, 71 FR 70739, 70741 (December 6, 2006) (2004-2005 New Shipper Review).

³⁸ See Fresh Cut Flowers From Mexico; Final Results of Antidumping Duty Administrative Review, 61 FR 6812, 6814 (February 22, 1996) (where the Department disregarded the highest margin in that case as adverse best information available (the predecessor to facts available) because the margin was based on another company's uncharacteristic business expense resulting in an unusually high margin).

³⁹ See D&L Supply Co. v. United States, 113 F.3d 1220, 1221 (Fed. Cir. 1997) (ruling that the Department will not use a margin that has been judicially invalidated).

⁴⁰ See the Corroboration Memorandum dated concurrently with this notice.

Since the 216.01 percent margin is within the range of transaction-specific margins on the record of this administrative review, the Department has determined that the 216.01 percent margin continues to be relevant for use as an AFA rate for the PRC-wide entity in this administrative review. Also, because this rate is within the range of Huafeng's transaction-specific margins in this review, we find the rate relevant to Huafeng's unreported sales.

As the adverse margin is both reliable and relevant, the Department has determined that it has probative value. Accordingly, the Department has determined that this rate meets the corroboration criterion established in section 776(c) of the Act. Huafeng has raised arguments with respect to the reliability and relevance of this rate, which are addressed in the accompanying Issues and Decision Memorandum at Comment 1.

Final Partial Rescission of Administrative Review

In the Preliminary Results, the Department stated its intent to rescind the administrative review with respect to the following companies because they all reported that they made no shipments during the POR.

• Clearwise Company Limited

• Dongguan Huangsheng Furniture Co., Ltd.⁴¹

⁴¹ Dongguan Huangsheng Furniture Co., Ltd.'s only sales made during the POR were covered by a new shipper review for the period January 1, 2009, through December 31, 2009. The new shipper review of this company was completed and therefore, these shipments are not subject to this administrative review. See Wooden Bedroom Furniture from the People's Republic of China: Final Results of Antidumping Duty New Shipper Reviews, 76 FR 9747 (February 22, 2011).

• Dongguan Mu Si Furniture Co. Ltd.

• Fleetwood Fine Furniture LP

• Hainan Jong Bao Lumber Co. Ltd/Jibbon Enterprise Co., Ltd.

• Shanghai Fangjia Industry Co., Ltd.

• Yeh Brothers World Trade Inc.

• Golden Well International (HK) Ltd.

• Zhejiang Tianyi Scientific and Educational Equipment Co., Ltd. (“Zhejiang Tianyi”) ⁴²

⁴² Zhejiang Tianyi's only sales made during the POR were covered by a new shipper review covering the period January 1, 2009, through June 30, 2009 and thus are not subject to this review. See Wooden Bedroom Furniture from the People's Republic of China: Final Results of Antidumping Duty New Shipper Review, 75 FR 44764 (July 29, 2010).

No parties commented on our intent to rescind. Because there is no information or argument on the record of the current review that warrants reconsidering our intent to rescind, we are rescinding this administrative review with respect to the above-listed companies.

Final Results of the Review

We determine that the following weighted-average percentage margins exist for the POR:

Exporter | Antidumping Duty Percent Margin
Dalian Huafeng Furniture Co., Ltd./Dalian Huafeng Furniture Group Co., Ltd | 41.75
Baigou Crafts Factory of Fengkai | 41.75
Cambridge Furniture Co., Ltd., Glory Oceanic Co., Ltd | 41.75
Cheng Meng Furniture (PTE) Ltd., Cheng Meng Decoration & Furniture (Suzhou) Co., Ltd | 41.75
COE, Ltd | 41.75
Dongguan Bon Ten Furniture Co., Ltd | 41.75
Dongguan Great Reputation Furniture Co., Ltd | 41.75
Dongguan Hero Way Woodwork Co., Ltd., Dongguan Da Zhong Woodwork Co., Ltd., Hero Way Enterprises Ltd., Well Earth International Ltd | 41.75
Dongguan Kin Feng Furniture Co., Ltd | 41.75
Dongguan Liaobushangdun Huada Furniture Factory , Great Rich (HK) Enterprise Co., Ltd | 41.75
Dongguan Singways Furniture Co., Ltd | 41.75
Dongguan Sunshine Furniture Co., Ltd | 41.75
Eurosa (Kunshan) Co., Ltd., Eurosa Furniture Co., (PTE) Ltd (Eurosa) | 41.75
Garri Furniture (Dong Guan) Co., Ltd., Molabile International, Inc. Weei Geo Enterprise Co., Ltd | 41.75
Hong Kong Da Zhi Furniture Co., Ltd., Dongguan Grand Style Furniture Co., Ltd | 41.75
Hualing Furniture (China) Co., Ltd., Tony House Manufacture (China) Co., Ltd., Buysell Investments Ltd., Tony House Industries Co., Ltd | 41.75
Jardine Enterprise, Ltd | 41.75
Longkou Huangshan Furniture Factory | 41.75
Meikangchi (Nantong) Furniture Company Ltd | 41.75
Nanhai Baiyi Woodwork Co. Ltd | 41.75
Nanjing Nanmu Furniture Co., Ltd | 41.75
Season Furniture Manufacturing Co., Season Industrial Development Co | 41.75
Shenyang Shining Dongxing Furniture Co., Ltd | 41.75
Shenzhen Shen Long Hang Industry Co., Ltd | 41.75
Wanhengtong Nueevder (Furniture) Manufacture Co., Ltd., Dongguan Wanengtong Industry Co., Ltd | 41.75
Winny Overseas, Ltd | 41.75
Xilinmen Furniture Co., Ltd | 41.75
Zhangjiagang Zheng Yan Decoration Co. Ltd | 41.75
Zhangjiang Sunwin Arts & Crafts Co., Ltd | 41.75
Zhong Shan Fullwin Furniture Co., Ltd | 41.75
PRC-Wide Entity | 216.01

Assessment Rates

The Department will determine, and CBP shall assess, antidumping duties on all appropriate entries of subject merchandise in accordance with the final results of this review. For assessment purposes, we calculated exporter/importer- (or customer) -specific assessment rates for merchandise subject to this review. Where appropriate, we calculated an ad valorem rate for each importer (or customer) by dividing the total dumping margins for reviewed sales to that party by the total entered values associated with those transactions. For duty-assessment rates calculated on this basis, we will direct CBP to assess the resulting ad valorem rate against the entered customs values for the subject merchandise. Where an importer- (or customer) -specific assessment rate is de minimis (i.e., less than 0.50 percent), the Department will instruct CBP to assess that importer's (or customer's) entries of subject merchandise without regard to antidumping duties. We intend to instruct CBP to liquidate entries containing subject merchandise exported by the PRC-wide entity at the PRC-wide rate determined in these final results. The Department intends to issue appropriate assessment instructions directly to CBP 15 days after publication of the final results of this review.

Cash-Deposit Requirements

The following cash deposit requirements will be effective upon publication of the final results of this administrative review for all shipments of the subject merchandise entered, or withdrawn from warehouse, for consumption on or after the publication date, as provided for by section 751(a)(2)(C) of the Act: (1) For the exporters listed above, the cash deposit rate will be the rates shown for those companies; (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 216.01 percent; and (4) for all non-PRC exporters of subject merchandise which have not received their own rate, the cash deposit rate will be the rate applicable to the PRC exporters that supplied that non-PRC exporter. These deposit requirements shall remain in effect until further notice.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective order (APO) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

Disclosure

We will disclose the calculations performed in these final results within five days of the date of public announcement of the final results to parties in this proceeding in accordance with 19 CFR 351.224(b). We are issuing and publishing these final results and notice in accordance with sections 751(a)(1) and 777(i)(1) of the Act.

Dated: August 5, 2011.
Ronald K. Lorentzen,
Deputy Assistant Secretary for Import Administration.

Appendix

Comment 1: Unreported Sales

Comment 2: Electricity

Comment 3: Warranty Expenses

Comment 4: Freight Revenue

Comment 5: The Appropriate Methodology for Valuing Cardboard Cartons

Comment 6: Brokerage and Handling

Comment 7: The Appropriate SV for Plywood

Comment 8: The Appropriate SV for Tape

Comment 9: The Appropriate SV for Poly Foam

Comment 10: The Appropriate SV for the Glue Used in Furniture Production

Comment 11: Error in the Draft Rescission Instructions

Comment 12: Calculation Error

Comment 13: The Appropriate Conversion Factor for Oak Veneer

Comment 14: Whether the Department Should Rescind its Administrative Review of Nantong Yangzi Furniture Co., Ltd.

Comment 15: Whether Great Reputation, Cambridge and Glory Are Entitled to a Separate Rate

Comment 16: Combination Rates

Comment 17: Duty Absorption

Comment 18: The Appropriate SV for Labor

Comment 19: Financial Ratios

Comment 20: Whether to use Huafeng's ME Purchases to Value Certain Inputs

Comment 21: Truck Freight

Comment 22: Whether the Department Should Rescind its Administrative Review of Zhangjiagang Zheng Yan Decoration Co., Ltd.

[FR Doc. 2011-20434 Filed 8-10-11; 8:45 am]

BILLING CODE